DEPARTMENT OF STATE

[Delegation of Authority No. 344]

Delegation by the Secretary of State to the Assistant Secretary of State for Consular Affairs the Authority to Determine That it is Necessary To Waive a Visa Interview as a Result of Unusual or Emergent Circumstances

By virtue of the authority vested in me as Secretary of State, including Section 1 of the State Department Basic Authorities Act, as amended (22 U.S.C. 2651a), I hereby delegate to the Assistant Secretary of State for Consular Affairs, to the extent authorized by law, the authority to determine that a visa interview waiver is necessary as a result of unusual or emergent circumstances, as provided under Section 222(h)(1)(C)(ii) of the Immigration and Nationality Act, 8 U.S.C. § 1202.

Any act, executive order, regulation, or procedure subject to, or affected by, this delegation shall be deemed to be such act, executive order, regulation, or procedure as amended from time to time.

This delegation of authority may be re-delegated to the Deputy Assistant Secretary for Visa Services.

Notwithstanding this delegation of authority, the Secretary, the Deputy Secretary, the Deputy Secretary for Management and Resources, and the Under Secretary for Management may at any time exercise any authority or function delegated by this delegation of authority.

This delegation of authority shall be published in the Federal Register.

Dated: August 20, 2012.
Hillary Rodham Clinton,
Secretary of State.

[FR Doc. 2012-21326 Filed 8-28-12; 8:45 am]

BILLING CODE 4710-06-P